DEPARTMENT OF THE INTERIOR

National Park Service

[NPS-WASO-NAGPRA-NPS0037436; PPWOCRADN0-PCU00RP14.R50000]

Notice of Inventory Completion: Arkansas Archeological Survey, Fayetteville, AR

AGENCY: National Park Service, Interior.

ACTION: Notice.

SUMMARY: In accordance with the Native American Graves Protection and Repatriation Act (NAGPRA), the Arkansas Archeological Survey has completed an inventory of human remains and has determined that there is a cultural affiliation between the human remains and Indian Tribes or Native Hawaiian organizations in this notice. The human remains were removed from Little River County Arkansas.

DATES: Repatriation of the human remains and associated funerary objects in this notice may occur on or after March 25, 2024.

ADDRESSES: Sarah Shepard, Arkansas Archeological Survey, 2475 N. Hatch Avenue, Fayetteville, AR 72704, telephone (479) 575-6552, email nagpra@uark.edu.

SUPPLEMENTARY INFORMATION: This notice is published as part of the National Park Service's administrative responsibilities under NAGPRA. The determinations in this notice are the sole responsibility of the Arkansas Archeological Survey. The National Park Service is not responsible for the determinations in this notice. Additional information on the determinations in this notice, including the results of consultation, can be found in the inventory or related records held by the Arkansas Archeological Survey.

Consultation

A detailed assessment of the human remains was made by the FBI professional staff in consultation with representatives of the Caddo's Nation's Tribal Historic Preservation Office. A government-to-government tribal consultation meeting was held on November 8, 2023, in Shawnee, Oklahoma. Conversations between the ARAS and Caddo Nation continued after that period.

History and Description of the Remains

The Arkansas Archeological Survey (ARAS) received a transfer from the Federal Bureau of Investigation (FBI) on October 5, 2023, of human remains recovered from a seizure in Indiana.

At an unknown date, human remains representing, at minimum, one individual were removed Little River County Arkansas. This individual was removed from the Bowman site, a large prehistoric Caddo ceremonial center on the Red River (Little River County) in Southwestern Arkansas. Following removal, the human remains (a single cranium) were transported to Indiana, where they remained as part of a private collection of Native American antiquities and cultural heritage. In April 2014, the human remains were seized by the FBI as part of a criminal investigation. The human remains represent one young adult female that, according to the osteology report, “18-25 yrs. age-at-death.” No associated funerary objects are present.

Based upon the historical record, site analysis, evidence obtained through criminal investigation, osteological analysis, and tribal consultation, the ARAS believes that there is a relationship of shared group identity that can be reasonably traced between the Native American human remains and the Caddo Nation.

Determinations

Pursuant to NAGPRA and its implementing regulations, and after consultation with the appropriate Indian Tribes, ARAS has determined that:

• The human remains described in this notice represent the physical remains of one individual of Native American ancestry.

• There is a relationship of shared group identity that can be reasonably traced between the Native American human remains and the Caddo Nation of Oklahoma.

Requests for Repatriation

Written requests for repatriation of the human remains in this notice must be sent to the Responsible Official identified in ADDRESSES. Requests for repatriation may be submitted by:

1. Any one or more of the Indian Tribes or Native Hawaiian organizations identified in this notice.

2. Any lineal descendant, Indian Tribe, or Native Hawaiian organization not identified in this notice who shows, by a preponderance of the evidence, that the requestor is a lineal descendant or a culturally affiliated Indian Tribe or Native Hawaiian organization.

Repatriation of the human remains in this notice to a requestor may occur on or after March 25, 2024. If competing requests for repatriation are received, ARAS must determine the most appropriate requestor prior to repatriation. Requests for joint repatriation of the human remains are considered a single request and not competing requests. ARAS is responsible for notifying the Caddo Nation that this notice has been published.

This notice was submitted before the effective date of the revised regulations (88 FR 86452, December 13, 2023, effective January 12, 2024). As the notice conforms to the mandatory format of the Federal Register and includes the required information, the National Park Service is publishing this notice as submitted.

Authority: Native American Graves Protection and Repatriation Act, 25 U.S.C. 3003, and the implementing regulations, 43 CFR 10.10.

Dated: February 14, 2024.
Melanie O'Brien,
Manager, National NAGPRA Program.

[FR Doc. 2024-03648 Filed 2-22-24; 8:45 am]

BILLING CODE 4312-52-P